NUCLEAR REGULATORY COMMISSION

[NRC-2017-0001]

Sunshine Act Meeting Notice

DATES: Weeks of August 28, September 4, 11, 18, 25, October 2, 2017.

PLACE: Commissioners' Conference Room, 11555 Rockville Pike, Rockville, Maryland.

STATUS: Public and Closed.

Week of August 28, 2017

There are no meetings scheduled for the week of August 28, 2017.

Week of September 4, 2017—Tentative

Wednesday, September 6, 2017

1:30 p.m. NRC All Employees Meeting (Public Meeting), Marriott Bethesda North Hotel, 5701 Marinelli Road, Rockville, MD 20852

Thursday, September 7, 2017

10:00 a.m. Briefing on NRC International Activities (Closed—Ex. 1 & 9)

Week of September 11, 2017—Tentative

There are no meetings scheduled for the week of September 11, 2017.

Week of September 18, 2017—Tentative

There are no meetings scheduled for the week of September 18, 2017.

Week of September 25, 2017—Tentative

There are no meetings scheduled for the week of September 25, 2017.

Week of October 2, 2017—Tentative

Thursday, October 5, 2017

9:00 a.m. Hearing on Combined Licenses for Turkey Point, Units 6 and 7: Section 189a. of the Atomic Energy Act Proceeding (Public Meeting) (Contact: Manny Comar: 301-415-3863)

This meeting will be webcast live at the Web address— http://www.nrc.gov/.

* * * * *

The schedule for Commission meetings is subject to change on short notice. For more information or to verify the status of meetings, contact Denise McGovern at 301-415-0681 or via email at Denise.McGovern@nrc.gov.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g., braille, large print), please notify Kimberly Meyer, NRC Disability Program Manager, at 301-287-0739, by videophone at 240-428-3217, or by email at Kimberly.Meyer-Chambers@nrc.gov. Determinations on requests for reasonable accommodation will be made on a case-by-case basis.

* * * * *

Members of the public may request to receive this information electronically. If you would like to be added to the distribution, please contact the Nuclear Regulatory Commission, Office of the Secretary, Washington, DC 20555 (301-415-1969), or email Brenda.Akstulewicz@nrc.gov or Patricia.Jimenez@nrc.gov.

Dated: August 24, 2017.
Denise L. McGovern,
Policy Coordinator, Office of the Secretary.

[FR Doc. 2017-18273 Filed 8-24-17; 4:15 pm]

BILLING CODE 7590-01-P